EXPORT-IMPORT BANK

Sunshine Act Meetings

Notice of an Open Meeting of the Board of Directors of the Export-Import Bank of the United States.

TIME AND DATE: Thursday, December 22, 2022, at 10:30 a.m.

PLACE: The meeting will be held via teleconference.

STATUS: The meeting will be open to public observation.

MATTERS TO BE CONSIDERED: Facultative Reinsurance and Facultative Risk Sharing with Private Sector Entities

CONTACT PERSON FOR MORE INFORMATION: Joyce B. Stone (202-257-4086). Members of the public who wish to attend the meeting via teleconference must register via using the link below by noon Wednesday December 21, 2022. After completing the registration, individuals will receive a confirmation email containing information about joining the webinar.

https://teams.microsoft.com/registration/PAFTuZHHMk2Zb1GDkIVFJw,pHLqbjVTrkuy_9KepKN6dQ,MFtnLzltSEGI6EQECdI5iQ,ZsdHLLqwokW2I3gz6bgB4Q,1yfct4LeXUOTa6FIziQ9tA,w50RA7BfZE2vhxnxe30hJA?mode=read&tenantId=b953013c-c791-4d32-996f-518390854527

Joyce B. Stone,
Assistant Corporate Secretary.

[FR Doc. 2022-27494 Filed 12-15-22; 11:15 am]

BILLING CODE 6690-01-P